ENVIRONMENTAL PROTECTION AGENCY

[FRL-6732-6]

Science Advisory Board; Notification of Change in Location of a Public Advisory Committee Meeting

Pursuant to the Federal Advisory Committee Act, Public Law 92-463, notice is hereby given of a change in location for the Science Advisory Board's (SAB's) Executive Committee meeting scheduled for Wednesday and Thursday, July 12-13, 2000. This meeting was previously noticed in 65 FR 39614, June 27, 2000. The only change from that previous notice is the meeting location. Both days of the meeting will now be held at the US Environmental Protection Agency, Environmental Research Center (ERC), Highway 54 and T.W. Alexander Drive, Research Triangle Park, NC. On July 12, the meeting will be in ERC Classroom Two, and on July 13, the meeting will be in ERC Classroom One. The meeting will convene each day at 8:30 am and adjourn no later than 5:30 pm. All times noted are Eastern Daylight Time. The meeting is open to the public, however, seating is limited and available on a first come basis.

Dated: June 30, 2000.
Donald G. Barnes,
Staff Director, Science Advisory Board.

[FR Doc. 00-17336 Filed 7-7-00; 8:45 am]

BILLING CODE 6560-50-P